Executive Order 14035 of June 25, 2021

Diversity, Equity, Inclusion, and Accessibility in the Federal Workforce

By the authority vested in me as President by the Constitution and the laws of the United States of America, including sections 1104, 3301, and 3302 of title 5, United States Code, and in order to strengthen the Federal workforce by promoting diversity, equity, inclusion, and accessibility, it is hereby ordered as follows:

Section 1. Policy. On my first day in office, I signed Executive Order 13985 (Advancing Racial Equity and Support for Underserved Communities Through the Federal Government), which established that affirmatively advancing equity, civil rights, racial justice, and equal opportunity is the responsibility of the whole of our Government. To further advance equity within the Federal Government, this order establishes that it is the policy of my Administration to cultivate a workforce that draws from the full diversity of the Nation.

As the Nation's largest employer, the Federal Government must be a model for diversity, equity, inclusion, and accessibility, where all employees are treated with dignity and respect. Accordingly, the Federal Government must strengthen its ability to recruit, hire, develop, promote, and retain our Nation's talent and remove barriers to equal opportunity. It must also provide resources and opportunities to strengthen and advance diversity, equity, inclusion, and accessibility across the Federal Government. The Federal Government should have a workforce that reflects the diversity of the American people. A growing body of evidence demonstrates that diverse, equitable, inclusive, and accessible workplaces yield higher-performing organizations.

Federal merit system principles include that the Federal Government's recruitment policies should “endeavor to achieve a work force from all segments of society” and that “[a]ll employees and applicants for employment should receive fair and equitable treatment in all aspects of personnel management” (5 U.S.C. 2301(b)(1), (2)). As set forth in Executive Order 13583 of August 18, 2011 (Establishing a Coordinated Government-Wide Initiative to Promote Diversity and Inclusion in the Federal Workforce), the Presidential Memorandum of October 5, 2016 (Promoting Diversity and Inclusion in the National Security Workforce), Executive Order 13988 of January 20, 2021 (Preventing and Combating Discrimination on the Basis of Gender Identity or Sexual Orientation), the National Security Memorandum of February 4, 2021 (Revitalizing America's Foreign Policy and National Security Workforce, Institutions, and Partnerships), and Executive Order 14020 of March 8, 2021 (Establishment of the White House Gender Policy Council), the Federal Government is at its best when drawing upon all parts of society, our greatest accomplishments are achieved when diverse perspectives are brought to bear to overcome our greatest challenges, and all persons should receive equal treatment under the law. This order reaffirms support for, and builds upon, the procedures established by Executive Orders 13583, 13988, and 14020, the Presidential Memorandum on Promoting Diversity and Inclusion in the National Security Workforce, and the National Security Memorandum on Revitalizing America's Foreign Policy and National Security Workforce, Institutions, and Partnerships. This order establishes that diversity, equity, inclusion, and accessibility are priorities for my Administration and benefit the entire Federal Government and the Nation, and establishes additional procedures to advance these priorities across the Federal workforce.

Sec. 2. Definitions. For purposes of this order, in the context of the Federal workforce:

(a) The term “underserved communities” refers to populations sharing a particular characteristic, as well as geographic communities, who have been systematically denied a full opportunity to participate in aspects of economic, social, and civic life. In the context of the Federal workforce, this term includes individuals who belong to communities of color, such as Black and African American, Hispanic and Latino, Native American, Alaska Native and Indigenous, Asian American, Native Hawaiian and Pacific Islander, Middle Eastern, and North African persons. It also includes individuals who belong to communities that face discrimination based on sex, sexual orientation, and gender identity (including lesbian, gay, bisexual, transgender, queer, gender non-conforming, and non-binary (LGBTQ+) persons); persons who face discrimination based on pregnancy or pregnancy-related conditions; parents; and caregivers. It also includes individuals who belong to communities that face discrimination based on their religion or disability; first-generation professionals or first-generation college students; individuals with limited English proficiency; immigrants; individuals who belong to communities that may face employment barriers based on older age or former incarceration; persons who live in rural areas; veterans and military spouses; and persons otherwise adversely affected by persistent poverty, discrimination, or inequality. Individuals may belong to more than one underserved community and face intersecting barriers.

(b) The term “diversity” means the practice of including the many communities, identities, races, ethnicities, backgrounds, abilities, cultures, and beliefs of the American people, including underserved communities.

(c) The term “equity” means the consistent and systematic fair, just, and impartial treatment of all individuals, including individuals who belong to underserved communities that have been denied such treatment.

(d) The term “inclusion” means the recognition, appreciation, and use of the talents and skills of employees of all backgrounds.

(e) The term “accessibility” means the design, construction, development, and maintenance of facilities, information and communication technology, programs, and services so that all people, including people with disabilities, can fully and independently use them. Accessibility includes the provision of accommodations and modifications to ensure equal access to employment and participation in activities for people with disabilities, the reduction or elimination of physical and attitudinal barriers to equitable opportunities, a commitment to ensuring that people with disabilities can independently access every outward-facing and internal activity or electronic space, and the pursuit of best practices such as universal design.

(f) The term “agency” means any authority of the United States that is an “agency” under 44 U.S.C. 3502(1), other than one considered to be an independent regulatory agency, as defined in 44 U.S.C. 3502(5).

Sec. 3. Government-Wide Diversity, Equity, Inclusion, and Accessibility Initiative and Strategic Plan. The Director of the Office of Personnel Management (OPM) and the Deputy Director for Management of the Office of Management and Budget (OMB)—in coordination with the Chair of the Equal Employment Opportunity Commission (EEOC) and in consultation with the Secretary of Labor, the Director of the Office of Science and Technology Policy, the Assistant to the President for National Security Affairs, the Assistant to the President for Domestic Policy (APDP), the Director of the National Economic Council, and the Co-Chairs of the Gender Policy Council—shall:

(a) reestablish a coordinated Government-wide initiative to promote diversity and inclusion in the Federal workforce, expand its scope to specifically include equity and accessibility, and coordinate its implementation with the provisions of Executive Order 13985 and the National Security Memorandum on Revitalizing America's Foreign Policy and National Security Workforce, Institutions, and Partnerships;

(b) develop and issue a Government-wide Diversity, Equity, Inclusion, and Accessibility Strategic Plan (Government-wide DEIA Plan) within 150 days of the date of this order that updates the Government-wide plan required by section 2(b)(i) of Executive Order 13583. The Government-wide DEIA Plan shall be updated as appropriate and at a minimum every 4 years. The Government-wide DEIA Plan shall:

(i) define standards of success for diversity, equity, inclusion, and accessibility efforts based on leading policies and practices in the public and private sectors;

(ii) consistent with merit system principles, identify strategies to advance diversity, equity, inclusion, and accessibility, and eliminate, where applicable, barriers to equity, in Federal workforce functions, including: recruitment; hiring; background investigation; promotion; retention; performance evaluations and awards; professional development programs; mentoring programs or sponsorship initiatives; internship, fellowship, and apprenticeship programs; employee resource group and affinity group programs; temporary employee details and assignments; pay and compensation policies; benefits, including health benefits, retirement benefits, and employee services and work-life programs; disciplinary or adverse actions; reasonable accommodations for employees and applicants with disabilities; workplace policies to prevent gender-based violence (including domestic violence, stalking, and sexual violence); reasonable accommodations for employees who are members of religious minorities; and training, learning, and onboarding programs;

(iii) include a comprehensive framework to address workplace harassment, including sexual harassment, which clearly defines the term “harassment”; outlines policies and practices to prevent, report, respond to, and investigate harassment; promotes mechanisms for employees to report misconduct; encourages bystander intervention; and addresses training, education, and monitoring to create a culture that does not tolerate harassment or other forms of discrimination or retaliation; and

(iv) promote a data-driven approach to increase transparency and accountability, which would build upon, as appropriate, the EEOC's Management Directive 715 reporting process;

(c) establish an updated system for agencies to report regularly on progress in implementing Agency DEIA Strategic Plans (as described in section 4(b) of this order) and in meeting the objectives of this order. New reporting requirements should be aligned with ongoing reporting established by Executive Order 13985 and the National Security Memorandum on Revitalizing America's Foreign Policy and National Security Workforce, Institutions, and Partnerships. Agency reports on actions taken to meet the objectives of this order shall include measurement of improvements, analysis of the effectiveness of agency programs, and descriptions of lessons learned. The Director of OPM and the Deputy Director for Management of OMB shall support agencies in developing workforce policies and practices designed to advance diversity, equity, inclusion, and accessibility throughout agencies by, for example, providing updated guidance and technical assistance to ensure that agencies consistently improve, evaluate, and learn from their workforce practices;

(d) pursue opportunities to consolidate implementation efforts and reporting requirements related to advancing diversity, equity, inclusion, and accessibility established through related or overlapping statutory mandates, Presidential directives, and regulatory requirements; and

(e) support, coordinate, and encourage agency efforts to conduct research, evaluation, and other evidence-building activities to identify leading practices, and other promising practices, for broadening participation and opportunities for advancement in Federal employment, and to assess and promote the benefits of diversity, equity, inclusion, and accessibility for Federal performance and operations and barriers to achieving these goals. Agencies should use the capabilities of their evaluation officers and chief statistical officers and requirements under the Foundations for Evidence-Based Policymaking Act of 2018, Public Law 115-435, to advance this goal.

Sec. 4. Responsibilities of Executive Departments and Agencies. The head of each agency shall make advancing diversity, equity, inclusion, and accessibility a priority component of the agency's management agenda and agency strategic planning. The head of each agency shall implement the Government-wide DEIA Plan prepared pursuant to section 3 of this order and such other related guidance as issued from time to time by the Director of OPM or the Deputy Director for Management of OMB. In addition, the head of each agency shall:

(a) within 100 days of the date of this order, submit to the APDP, the Director of OPM, and the Deputy Director for Management of OMB a preliminary assessment of the current state of diversity, equity, inclusion, and accessibility in the agency's human resources practices and workforce composition. In conducting such assessment, the head of each agency should:

(i) assess whether agency recruitment, hiring, promotion, retention, professional development, performance evaluations, pay and compensation policies, reasonable accommodations access, and training policies and practices are equitable;

(ii) take an evidence-based and data-driven approach to determine whether and to what extent agency practices result in inequitable employment outcomes, and whether agency actions may help to overcome systemic societal and organizational barriers;

(iii) assess the status and effects of existing diversity, equity, inclusion, and accessibility initiatives or programs, and review the amount of institutional resources available to support human resources activities that advance the objectives outlined in section 1 of this order; and

(iv) identify areas where evidence is lacking and propose opportunities to build evidence to advance diversity, equity, inclusion, and accessibility and address those gaps identified;

(b) within 120 days of the issuance of the Government-wide DEIA Plan, and annually thereafter, develop and submit to the APDP, the Director of OPM, and the Deputy Director for Management of OMB an Agency Diversity, Equity, Inclusion, and Accessibility Strategic Plan (Agency DEIA Strategic Plan), as described by section 3(b) of Executive Order 13583 and as modified by this order. Agency DEIA Strategic Plans should identify actions to advance diversity, equity, inclusion, and accessibility in the workforce and remove any potential barriers to diversity, equity, inclusion, and accessibility in the workforce identified in the assessments described in subsection (a) of this section. Agency DEIA Strategic Plans should also include quarterly goals and actions to advance diversity, equity, inclusion, and accessibility initiatives in the agency workforce and in the agency's workplace culture;

(c) on an annual basis, report to the President on the status of the agency's efforts to advance diversity, equity, inclusion, and accessibility within the agency, and the agency's success in implementing the Agency DEIA Strategic Plan. Consistent with guidance issued as part of the Government-wide DEIA Plan, the agency head shall also make available to the general public information on efforts to advance diversity, equity, inclusion, and accessibility in the agency's workforce;

(d) oversee, and provide resources and staffing to support, the implementation of the Agency DEIA Strategic Plan;

(e) enhance diversity, equity, inclusion, and accessibility within the agency, in collaboration with the agency's senior officials and consistent with applicable law and merit system principles;

(f) seek opportunities to establish a position of chief diversity officer or diversity and inclusion officer (as distinct from an equal employment opportunity officer), with sufficient seniority to coordinate efforts to promote diversity, equity, inclusion, and accessibility within the agency;

(g) strongly consider for employment, to the extent permitted by applicable law, qualified applicants of any background who have advanced diversity, equity, inclusion, and accessibility in the workplace; and

(h) in coordination with OMB, seek opportunities to ensure alignment across various organizational performance planning requirements and efforts by integrating the Agency DEIA Strategic Plan and diversity, equity, inclusion, and accessibility goals into broader agency strategic planning efforts described in 5 U.S.C. 306 and the agency performance planning described in 31 U.S.C. 1115.

Sec. 5. Data Collection. (a) The head of each agency shall take a data-driven approach to advancing policies that promote diversity, equity, inclusion, and accessibility within the agency's workforce, while protecting the privacy of employees and safeguarding all personally identifiable information and protected health information.

(b) Using Federal standards governing the collection, use, and analysis of demographic data (such as OMB Directive No. 15 (Standards for Maintaining, Collecting, and Presenting Federal Data on Race and Ethnicity) and OMB Memorandum M-14-06 (Guidance for Providing and Using Administrative Data for Statistical Purposes)), the head of each agency shall measure demographic representation and trends related to diversity in the agency's overall workforce composition, senior workforce composition, employment applications, hiring decisions, promotions, pay and compensation, professional development programs, and attrition rates.

(c) The Director of OPM, the Chair of the EEOC, and the Deputy Director for Management of OMB shall review existing guidance, regulations, policies, and practices (for purposes of this section, “guidance”) that govern agency collection of demographic data about Federal employees, and consider issuing, modifying, or revoking such guidance in order to expand the collection of such voluntarily self-reported data and more effectively measure the representation of underserved communities in the Federal workforce. In revisiting or issuing any such guidance, the Director of OPM, the Chair of the EEOC, and the Deputy Director for Management of OMB shall take steps to promote the protection of privacy and to safeguard personally identifiable information; facilitate intersectional analysis; and reduce duplicative reporting requirements. In considering whether to revisit or issue such guidance, the Director of OPM, the Chair of the EEOC, and the Deputy Director for Management of OMB shall consult with the Chief Statistician of the United States, the Chair of the Chief Data Officers Council, and the Co-Chairs of the Interagency Working Group on Equitable Data established in section 9 of Executive Order 13985.

(d) The head of each agency shall implement any such revised guidance issued pursuant to subsection (c) of this section to expand the collection of voluntarily self-reported demographic data. The head of each agency shall also take steps to ensure that data collection and analysis practices allow for the capture or presence of multiple attributes and identities to ensure an intersectional analysis.

(e) The head of each agency shall collect and analyze voluntarily self-reported demographic data regarding the membership of advisory committees, commissions, and boards in a manner consistent with applicable law, including privacy and confidentiality protections, and with statistical standards where applicable. For agencies that have external advisory committees, commissions, or boards to which agencies appoint members, agency heads shall pursue opportunities to increase diversity, equity, inclusion, and accessibility on such committees, commissions, and boards.

Sec. 6. Promoting Paid Internships. (a) The Director of OPM and the Deputy Director for Management of OMB shall issue guidance to agencies and the Executive Office of the President with respect to internships and similar programs within the Federal Government, including guidance on how to:

(i) increase the availability of paid internships, fellowships, and apprenticeships, and reduce the practice of hiring interns, fellows, and apprentices who are unpaid;

(ii) ensure that internships, fellowships, and apprenticeships serve as a supplement to, and not a substitute for, the competitive hiring process;

(iii) ensure that internships, fellowships, and apprenticeships serve to develop individuals' talent, knowledge, and skills for careers in government service;

(iv) improve outreach to and recruitment of individuals from underserved communities for internship, fellowship, and apprenticeship programs; and

(v) ensure all interns, fellows, and apprentices with disabilities, including applicants and candidates, have a process for requesting and obtaining reasonable accommodations to support their work in the Federal Government, without regard to whether such individuals are covered by the Rehabilitation Act of 1973, Public Law 93-112.

(b) The head of each agency shall, as part of the annual reporting process described in section 4(c) of this order, measure and report on the agency's progress with respect to the matters described in subsection (a) of this section.

Sec. 7. Partnerships and Recruitment. (a) The Director of the Office of Science and Technology Policy (OSTP), the Director of OPM, and the Deputy Director for Management of OMB, in consultation with the Chair of the EEOC, shall coordinate a Government-wide initiative to strengthen partnerships (Partnerships Initiative) to facilitate recruitment for Federal employment opportunities of individuals who are members of underserved communities. To carry out the Partnerships Initiative, the Director of OSTP, the Director of OPM, and the Deputy Director for Management of OMB shall take steps to increase diversity in the Federal employment pipeline by supporting and guiding agencies in building or strengthening partnerships with Historically Black Colleges and Universities, including Historically Black Graduate Institutions; Hispanic-Serving Institutions; Tribal Colleges and Universities; Native American-serving, nontribal institutions; Asian American and Pacific Islander-serving institutions; Tribally controlled colleges and universities; Alaska Native-serving and Native Hawaiian-serving institutions; Predominantly Black Institutions; women's colleges and universities; State vocational rehabilitation agencies that serve individuals with disabilities; disability services offices at institutions of higher education; organizations dedicated to serving veterans; public and non-profit private universities serving a high percentage of economically disadvantaged students or first-generation college or graduate students; community colleges and technical schools; and community-based organizations that are dedicated to serving and working with underserved communities, including return-to-work programs, programs that provide training and support for older adults seeking employment, programs serving formerly incarcerated individuals, centers for independent living, disability rights organizations, and organizations dedicated to serving LGBTQ+ individuals.

(b) The head of each agency shall work with the Director of OSTP, the Director of OPM, and the Deputy Director for Management of OMB to make employment, internship, fellowship, and apprenticeship opportunities available through the Partnerships Initiative, and shall take steps to enhance recruitment efforts through the Partnerships Initiative, as part of the agency's overall recruitment efforts. The head of each agency shall, as part of the reporting processes described in sections 3(c) and 4(c) of this order, measure and report on the agency's progress on carrying out this subsection.

Sec. 8. Professional Development and Advancement. (a) The Director of OPM, in consultation with the Deputy Director for Management of OMB, shall issue detailed guidance to agencies for tracking demographic data relating to participation in leadership and professional development programs and development opportunities offered or sponsored by agencies and the rate of the placement of participating employees into senior positions in agencies, in a manner consistent with privacy and confidentiality protections and statistical limitations.

(b) The head of each agency shall implement the guidance issued pursuant to subsection (a) of this section, and shall use demographic data relating to participation in professional development programs to identify ways to improve outreach and recruitment for professional development programs offered or sponsored by the agency, consistent with merit system principles. The head of each agency shall also address any barriers to access to or participation in such programs faced by members of underserved communities.

Sec. 9. Training and Learning. (a) The head of each agency shall take steps to implement or increase the availability and use of diversity, equity, inclusion, and accessibility training programs for employees, managers, and leadership. Such training programs should enable Federal employees, managers, and leaders to have knowledge of systemic and institutional racism and bias against underserved communities, be supported in building skillsets to promote respectful and inclusive workplaces and eliminate workplace harassment, have knowledge of agency accessibility practices, and have increased understanding of implicit and unconscious bias.

(b) The Director of OPM and the Chair of the EEOC shall issue guidance and serve as a resource and repository for best practices for agencies to develop or enhance existing diversity, equity, inclusion, and accessibility training programs.

Sec. 10. Advancing Equity for Employees with Disabilities. (a) As established in Executive Order 13548 of July 26, 2010 (Increasing Federal Employment of Individuals with Disabilities), the Federal Government must become a model for the employment of individuals with disabilities. Because a workforce that includes people with disabilities is a stronger and more effective workforce, agencies must provide an equitable, accessible, and inclusive environment for employees with disabilities. In order for Federal employees and applicants with disabilities to be assessed on their merits, accessible information technologies must be provided and, where needed, reasonable accommodations must be available that will allow qualified individuals with disabilities to perform the essential functions of their positions and access advancement opportunities. To that end, the relevant agencies shall take the actions set forth in this section.

(b) The Secretary of Labor, the Director of OPM, the Chair of the EEOC, the Deputy Director for Management of OMB, and the Executive Director of the Architectural and Transportation Barriers Compliance Board (Access Board), in consultation with the Administrator of General Services, as appropriate, shall coordinate with agencies to:

(i) support the Federal Government's effort to provide people with disabilities equal employment opportunities and take affirmative actions within the Federal Government to ensure that agencies fully comply with applicable laws, including sections 501, 504, and 508 of the Rehabilitation Act of 1973, as amended (29 U.S.C. 791, 794, 794d);

(ii) assess current practices in using Schedule A hiring authority to employ people with disabilities in the Federal Government, and evaluate opportunities to enhance equity in employment opportunities and financial security for employees with disabilities through different practices or guidance on the use of Schedule A hiring authority; and

(iii) ensure that:

(A) applicants and employees with disabilities have access to information about and understand their rights regarding disability self-identification;

(B) applicants and employees with disabilities have access to information about Schedule A hiring authority for individuals with disabilities;

(C) applicants and employees with disabilities have access to information about, understand their rights to, and may easily request reasonable accommodations, workplace personal assistance services, and accessible information and communication technology;

(D) the process of responding to reasonable accommodation requests is timely and efficient;

(E) the processes and procedures for appealing the denial of a reasonable accommodation request are timely and efficient; and

(F) all information and communication technology and products developed, procured, maintained, or used by Federal agencies are accessible and usable by employees with disabilities consistent with all standards and technical requirements of the Rehabilitation Act of 1973.

(c) To ensure that all Federal office buildings and workplaces are accessible to employees with disabilities, the Administrator of General Services, the Director of OPM, the Deputy Director for Management of OMB, and the Executive Director of the Access Board shall work with Federal agencies to ensure that Federal buildings and leased facilities comply with the accessibility standards of the Architectural Barriers Act of 1968, Public Law 90-480, and related standards.

(d) Beyond existing duties to comply with the Architectural Barriers Act of 1968 and related standards, the head of each agency shall maximize the accessibility of the physical environment of the agency's workplaces, consistent with applicable law and the availability of appropriations, so as to reduce the need for reasonable accommodations, and provide periodic notice to all employees that complaints concerning accessibility barriers in Federal buildings can be filed with the Access Board.

(e) The Secretary of Defense and the Secretary of Labor shall review the use of the Workforce Recruitment Program (WRP) for college students and recent graduates with disabilities and take steps, as appropriate and consistent with applicable law, to expand the WRP. The Secretaries shall submit a report to the APDP describing any steps taken pursuant to this subsection and providing recommendations for any Presidential, administrative, or congressional actions to further expand and strengthen the program and expand job opportunities.

Sec. 11. Advancing Equity for LGBTQ+ Employees. (a) As established in Executive Order 13988, it is the policy of my Administration to prevent and combat discrimination on the basis of gender identity or sexual orientation. Each Federal employee should be able to openly express their sexual orientation, gender identity, and gender expression, and have these identities affirmed and respected, without fear of discrimination, retribution, or disadvantage. To that end, the relevant agencies shall take the actions set forth in this section.

(b) The head of each agency shall, in coordination with the Director of OPM, ensure that existing employee support services equitably serve LGBTQ+ employees, including, as appropriate, through the provision of supportive services for transgender and gender non-conforming and non-binary employees who wish to legally, medically, or socially transition.

(c) To ensure that LGBTQ+ employees (including their beneficiaries and their eligible dependents), as well as LGBTQ+ beneficiaries and LGBTQ+ eligible dependents of all Federal employees, have equitable access to healthcare and health insurance coverage:

(i) the Director of OPM shall take actions to promote equitable healthcare coverage and services for enrolled LGBTQ+ employees (including their beneficiaries and their eligible dependents), LGBTQ+ beneficiaries, and LGBTQ+ eligible dependents, including coverage of comprehensive gender-affirming care, through the Federal Employees Health Benefits Program; and

(ii) the Secretary of Defense shall take actions to promote equitable healthcare coverage and services for LGBTQ+ members of the uniformed services (including their beneficiaries and their eligible dependents), LGBTQ+ beneficiaries, and LGBTQ+ eligible dependents, including coverage of comprehensive gender-affirming care, through the Military Health System.

(d) To ensure that LGBTQ+ employees (including their beneficiaries and their eligible dependents), LGBTQ+ beneficiaries, and LGBTQ+ eligible dependents have equitable access to all other insurance coverage and employee benefits, the head of each agency shall, in coordination with the Director of OPM, ensure that the Federal Government equitably provides insurance coverage options and employee benefits for LGBTQ+ employees (including their beneficiaries and their eligible dependents), LGBTQ+ beneficiaries, and LGBTQ+ eligible dependents, including long-term care insurance, sick leave, and life insurance. This includes ensuring that Federal benefits, programs, and services recognize the diversity of family structures.

(e) To ensure that all Federal employees have their respective gender identities accurately reflected and identified in the workplace:

(i) the head of each agency shall, in coordination with the Director of OPM, take steps to foster an inclusive environment where all employees' gender identities are respected, such as by including, where applicable, non-binary gender marker and pronoun options in Federal hiring, employment, and benefits enrollment forms;

(ii) the Secretary of Commerce, acting through the Director of the National Institute of Standards and Technology, shall update, as appropriate and in consultation with any other relevant agencies, any relevant Federal employee identification standards to ensure that Federal systems for issuing employee identity credentials account for the needs of transgender and gender non-conforming and non-binary employees. The Secretary, in coordination with any other relevant agencies, shall take steps to reduce any unnecessary administrative burden for transgender and gender non-conforming and non-binary employees to update their names, photographs, gender markers, and pronouns on federally issued employee identity credentials, where applicable; and

(iii) the head of each agency shall, in consultation with the Director of OPM, update Federal employee identification standards to include non-binary gender markers where gender markers are required in employee systems and profiles, and shall take steps to reduce any unnecessary administrative burden for transgender and gender non-conforming and non-binary employees to update their gender markers and pronouns in employee systems and profiles, where applicable.

(f) To support all Federal employees in accessing workplace facilities aligned with their gender identities, the head of each agency shall explore opportunities to expand the availability of gender non-binary facilities and restrooms in federally owned and leased workplaces.

(g) The Director of National Intelligence, in consultation with the Director of OPM and the heads of agencies, shall take steps to mitigate any barriers in security clearance and background investigation processes for LGBTQ+ employees and applicants, in particular transgender and gender non-conforming and non-binary employees and applicants.

(h) The Director of OPM shall review and update, if necessary, OPM's 2017 Guidance Regarding the Employment of Transgender Individuals in the Federal Workplace.

Sec. 12. Pay Equity. Many workers continue to face racial and gender pay gaps, and pay inequity disproportionately affects women of color. Accordingly:

(a) The Director of OPM shall review Government-wide regulations and guidance and, as appropriate and consistent with applicable law, in order to address any pay inequities and advance equal pay, consider whether to:

(i) work with agencies to review, and revise if necessary, job classification and compensation practices; and

(ii) prohibit agencies from seeking or relying on an applicant's salary history during the hiring process to set pay or when setting pay for a current employee, unless salary history is raised without prompting by the applicant or employee.

(b) The head of each agency that administers a pay system other than one established under title 5 of the United States Code shall review the agency's regulations and guidance and, as appropriate and consistent with applicable law, revise compensation practices in order to address any pay inequities and advance equal pay. Agencies should report to OPM any revisions to compensation practices made to implement this direction.

(c) The Director of OPM shall submit a report to the President describing any changes to Government-wide and agency-specific compensation practices recommended and adopted pursuant to this order.

Sec. 13. Expanding Employment Opportunities for Formerly Incarcerated Individuals. To support equal opportunity for formerly incarcerated individuals who have served their terms of incarceration and to support their ability to fully reintegrate into society and make meaningful contributions to our Nation, the Director of OPM shall evaluate the existence of any barriers that formerly incarcerated individuals face in accessing Federal employment opportunities and any effect of those barriers on the civil service. As appropriate, the Director of OPM shall also evaluate possible actions to expand Federal employment opportunities for formerly incarcerated individuals, including the establishment of a new hiring authority, and shall submit a report to the President containing the results of OPM's evaluation within 120 days of the date of this order.

Sec. 14. Delegation of Authority. The Director of OPM is hereby delegated the authority of the President under sections 3301 and 3302 of title 5, United States Code, for purposes of carrying out the Director's responsibilities under this order.

Sec. 15. General Provisions. (a) Nothing in this order shall be construed to impair or otherwise affect:

(i) authority granted by law to an executive department or agency, or the head thereof; or

(ii) functions of the Director of the Office of Management and Budget relating to budgetary, administrative, or legislative proposals.

(b) This order shall be implemented consistent with applicable law and subject to the availability of appropriations.

(c) Independent agencies are strongly encouraged to comply with the provisions of this order.

(d) This order is not intended to, and does not, create any right or benefit, substantive or procedural, enforceable at law or in equity by any party against the United States, its departments, agencies, or entities, its officers, employees, or agents, or any other person.

THE WHITE HOUSE,

June 25, 2021.

[FR Doc. 2021-14127

Filed 6-29-21; 8:45 am]

Billing code 3295-F1-P